EXPORT-IMPORT BANK

[Public Notice: EIB-2025-0012]

Application for Final Commitment for a Long-Term Loan or Financial Guarantee in Excess of $100 million: AP300029XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before September 5, 2025 to be assured of consideration before final consideration of the transaction by the Board of Directors of EXIM.

ADDRESSES: Comments may be submitted through Regulations.gov at WWW.REGULATIONS.GOV. To submit a comment, enter EIB-2025-0012 under the heading “Enter Keyword or ID” and select Search. Follow the instructions provided at the Submit a Comment screen. Please include your name, company name (if any) and EIB-2025-0012 on any attached document.

SUPPLEMENTARY INFORMATION:

Reference: AP300029XX.

Purpose and Use:

Brief description of the purpose of the transaction: Support of the export of U.S. manufactured goods and services.

Brief non-proprietary description of the anticipated use of the items being exported: Use in an oil and gas field optimization project.

Parties:

Principal Suppliers: Schlumberger Technology Corp, Houston, Texas; Weatherford Drilling International, Houston, Texas; Enerflex, Houston, Texas; Halliburton Worldwide, Houston, Texas; National Oilwell Varco, Houston, Texas; Helmerich & Payne, Tulsa, Oklahoma; Geophysical Technology Inc., Stafford, Texas.

Obligor: Bapco Energies B.S.C. (Bahrain).

Guarantor(s): None.

Description of Items Being Exported: Oilfield equipment and engineering and technical services.

Information on Decision: Information on the final decision for this transaction will be available in the “Summary Minutes of Meetings of Board of Directors” on https://www.exim.gov/news/meeting-minutes.

Confidential Information: Please note that this notice does not include confidential or proprietary business information; information which, if disclosed, would violate the Trade Secrets Act; or information which would jeopardize jobs in the United States by supplying information that competitors could use to compete with companies in the United States.

(Authority: Section 3(c)(10) of the Export-Import Bank Act of 1945, as amended (12 U.S.C. 635a(c)(10)).)

Deidre Hodge,
Assistant Corporate Secretary.

[FR Doc. 2025-15207 Filed 8-8-25; 8:45 am]

BILLING CODE 6690-01-P